DEPARTMENT OF VETERANS AFFAIRS

Advisory Committee on Women Veterans, Notice of Meeting

The Department of Veterans Affairs (VA) gives notice under the Federal Advisory Committee Act, 5 U.S.C. ch. 10, that the Advisory Committee on Women Veterans will conduct a site visit on June 13-16, 2023. The Committee meeting is held with the Veterans Integrated Service Network (VISN) 5: VA Capitol Health Care Network; and with the VA Maryland Health Care System (VAMHCS), 10 North Greene Street, Baltimore, MD 21201-1524 (Room #3a-300) Baltimore, Maryland. The meeting sessions will begin and ends as follows:

Date | Time | Location
June 13, 2023 | 8:30 a.m.-3:00 p.m. Eastern Standard Time (EST) | VAMHCS Facility/Microsoft TEAMS link and call-in information below.
June 14, 2023 | 8:30 a.m.-3:00 p.m. (EST) | VAMHCS Facility/Microsoft TEAMS link and call-in information below.
June 15, 2023 | 8:30 a.m.-2:30 p.m. (EST) | VAMHCS Facility/Microsoft TEAMS link and call-in information below.
June 16, 2023 | 8:30 a.m.-10:00 a.m. (EST) | VAMHCS Facility/Microsoft TEAMS link and call-in information below.

The meeting sessions are open to the public.

The purpose of the Committee is to advise the Secretary of Veterans Affairs regarding the needs of women Veterans with respect to health care, rehabilitation, compensation, outreach and other programs and activities administered by VA designed to meet such needs. The Committee makes recommendations to the Secretary regarding such programs and activities.

On Tuesday, June 13, the agenda includes overviews of VISN 5's facilities and program; an overview of VISN 5 services for women Veterans; and an overview of VAMHCS's facilities, programs and community partners.

On Wednesday, June 14, the agenda includes a continuation of briefings on VAMHCS's programs and services for women Veterans.

On Thursday, June 15, the agenda includes a continuation of briefings on VAMHCS's programs; an overview of Baltimore Regional Office's business lines and initiatives; and an overview of Baltimore National Cemetery Complex's services and programs.

On Friday, June 16, the Committee will conduct an out-briefing with leadership from VISN 5, VAMHCS, Baltimore Regional Office and Baltimore National Cemetery Complex. The Committee meeting will adjourn at 10:00 a.m.

No time will be allocated at this meeting for receiving oral presentations from the public. Interested parties should provide written comments for review by the Committee to Ms. Shannon L. Middleton at 00W@mail.va.gov no later than June 7, 2023. Any member of the public who wishes to participate virtually, please click here: Join the meeting, Meeting ID: 232 290 448 094, Passcode: RknRoB; or call in (audio only) +1 205-235-3524, 38312534#, phone conference ID: 383 125 34#.

Dated: May 30, 2023.
Jelessa M. Burney,
Federal Advisory Committee Management Officer.

[FR Doc. 2023-11804 Filed 6-1-23; 8:45 am]

BILLING CODE P